DEPARTMENT OF HEALTH AND HUMAN SERVICES

Administration for Children and Families

[CFDA Number: 93.579]

Announcement of the Intent To Award Four Single-Source Grants

AGENCY: Office of Human Services Emergency Preparedness and Response (OHSEPR), Administration for Children and Families (ACF), Department of Health and Human Services (HHS).

ACTION: Notice of issuance of four single-source awards.

SUMMARY: The ACF, OHSEPR announces the intent to award four single-source grants in the amount of up to $300,000 to the following recipients: United Way Worldwide, Alexandria, VA; National Association of Social Workers, Washington, DC; American Public Human Services Association, Arlington, VA; and National Association of County Human Services Administrators, Washington, DC. The purpose of these awards is to facilitate the coordination of human services to U.S. Citizens and their dependents evacuating to the United States from Afghanistan. These organizations are key players in the leadership, coordination, or direct provision of human services after an emergency and have direct access to their constituencies and networks. U.S. citizens and their dependents (repatriates) eligible for temporary assistance under the U.S. Repatriation Program can receive up to 90 days of temporary assistance which includes transportation, food, medical care, cash assistance, temporary lodging, and case management. These awards will ensure appropriate training and technical assistance, coordination, and subject matter expertise as repatriates connect to human services entities.

DATES: The proposed period of performance is September 30, 2021 to September 30, 2022.

FOR FURTHER INFORMATION CONTACT: Natalie Grant, Director, Office of Human Services Emergency Preparedness and Response, 330 C St. SW, Washington, DC 20201. Telephone: 202-205-7843; Email: Natalie.grant@acf.hhs.gov.

SUPPLEMENTARY INFORMATION: OHSEPR announces the intent to award the following single-source awards:

Recipient | Award amount of up to
United Way Worldwide, Alexandria, VA | $75,000
National Association of Social Workers, Washington, DC | 75,000
American Public Human Services Association, Arlington, VA | 75,000
National Association of County Human Services Administrators, Washington, DC | 75,000

United Way supports 211, which is the most comprehensive source of information about local resources and services in the United States. United Way's 211 has demonstrated experience providing disaster-related assistance to disaster survivors. United Way's existing network of 211 agencies will provide information and referrals to evacuees from Afghanistan including repatriates eligible for temporary assistance.

NASW is the largest membership organization of professional social workers in the world. NASW has the ability to train a large number of professional social workers across the United States, including many who have provided case management and human services following an emergency. NASW will train its members on how to provide culturally competent case management and human services to evacuees from Afghanistan and ensure appropriate coordination and subject matter expertise.

APHSA is a national membership association representing state and local health and human services agencies and subject matter experts who help execute their mission. APHSA has a direct connection to a network of state and county health and human services executives with first-hand knowledge of and expertise in operating programs and delivering human services following an emergency. APHSA will educate its members on the provision of culturally appropriate human services to evacuees from Afghanistan by providing training and technical assistance.

NACHSA members represent a broad range of human services agencies throughout the United States, including ones that provide public assistance, child care, child protective services, and adult protective services. NACHSA supports the professional development of county human services administrators, whose agencies deliver essential human services. NACHSA will educate its membership on providing culturally appropriate human services to evacuees from Afghanistan and ensure county level coordination of services.

Statutory Authority: Social Security Act, Title XI, Part A, Section 1113, 42 U.S. Code 1313(a)(3).

Elizabeth Leo,
Senior Grants Policy Specialist, Office of Grants Policy, Office of Administration.

[FR Doc. 2021-21418 Filed 9-28-21; 4:15 pm]

BILLING CODE 8414-PC-P